DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Region Permit Family of Forms.

OMB Control Number: 0648-0204.

Form Number(s): None.

Type of Request: Regular submission (extension of a currently approved collection).

Number of Respondents: 1,768.

Average Hours per Response: Pacific Highly Migratory Species Vessel Permit Application: Paper—20 minutes, Online—15 minutes; Pacific Highly Migratory Species Vessel Permit Renewal Application: Paper—10 minutes, Online—5 minutes; Coastal Pelagic Fishing Limited Entry Permit Renewal Form—10 minutes; Coastal Pelagic Fishing Limited Entry Permit Transfer—30 minutes; EFP—60 minutes; Limited Entry Drift Gillnet Permit: Renewal—10 minutes; Transfer Form—30 minutes; Designation Request—30 minutes; Exemption Request—30 minutes; Appeals—4 hours.

Burden Hours: 203 hours.

Needs and Uses: The West Coast Region (WCR) Southwest Permits Office administers permits required for persons participating in federally-managed fisheries off the West Coast under the Magnuson-Stevens Fishery Conservation and Management act, 16 U.S.C. 1801 et seq. There are three types of permits: Open access fishery permits, limited entry permits for selected fisheries, and exempted fishing permits (EFPs). Open access permits are used in all fisheries where there are no specific limitations or eligibility criteria for entry to the fishery. Limited entry permits are used to prevent overcapitalization or address other management goals in the fishery and are issued to applicants for fishing activities that would otherwise be prohibited under a fisheries management plan. Permits also provide an important link between the NMFS and fishermen via the permit application process. The permit application process also makes it easier for NMFS staff to contact fishermen and advise them of changes in the regulations or fishery conditions, and give fishermen a direct point of contact in case they have questions or issues they want to bring to the attention of NMFS or a fishery management council.

This collection consists of four permits: The General Highly Migratory Species (HMS) permit, limited entry permits for coastal pelagic species (CPS) and drift gillnet (DGN), and EFPs.

Affected Public: Business or other for-profit.

Frequency: HMS permits—Biennial; CPS biennial; DGN LE—annual; EFP—biennial; DGN LE Designation Request—annual; DGN LE Exemption Request—annual; appeals—annual.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00833 Filed 1-17-20; 8:45 am]

BILLING CODE 3510-22-P